DEPARTMENT OF TRANSPORTATION

Maritime Administration

[Docket Number MARAD 2007 0006]

Maintenance and Repair Reimbursement Pilot Program

AGENCY: Maritime Administration, Department of Transportation.

ACTION: Notice of extension of application deadline.

SUMMARY: The Maritime Administration is hereby giving notice that the closing date for filing applications to enroll in the Maintenance and Repair Reimbursement Pilot Program is extended until December 30, 2007. The notice announcing the initial application deadline was published in the Federal Register on July 2, 2007 (72 FR 36103). An extension to October 30, 2007 was previously published in the Federal Register on July 30, 2007 (72 FR 41581-01).

FOR FURTHER INFORMATION CONTACT: Jean E. McKeever, Associate Administrator for Business and Workforce Development, Maritime Administration, 1200 New Jersey Ave., SE., Washington, DC 20590; phone: (202) 366-5737; fax: (202) 366-3511; or e-mail: Jean.McKeever@dot.gov.

SUPPLEMENTARY INFORMATION: Section 3517 of the National Defense Authorization Act for fiscal year 2007 (Pub. L. 109-163) requires a person who is awarded a Maritime Security Program (“MSP”) agreement to also enter into an agreement with the Maritime Administration to perform maintenance and repair (“M&R”) work in United States shipyards as a condition of the MSP award. The Maritime Administration's M&R regulations do not apply the M&R condition to contractors who have already been awarded an M&R agreement. Thus, the Maritime Administration's M&R regulations make the M&R obligation mandatory on new awardees, including transferees, of MSP agreements, and voluntary for existing MSP contractors. The M&R regulations were published in the Federal Register on February 6, 2007 (72 FR 5342-01), but did not specify a time period for submitting applications. The deadline for applying for the M&R program is being extended to accommodate one or more carriers that are considering submitting applications, but need additional time to make a decision.

(Authority: 49 CFR 1.66)

Dated: October 24, 2007.
By Order of the Maritime Administrator.
Christine Gurland,
Secretary, Maritime Administration.

[FR Doc. E7-21303 Filed 10-29-07; 8:45 am]

BILLING CODE 4910-81-P